DEPARTMENT OF AGRICULTURE

Submission for OMB Review; Comment Request

May 14, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Institute of Food and Agriculture

Title: 4-H Enrollment Report.

OMB Control Number: 0524-0045.

Summary of Collection: The mission of the National 4-H Headquarters; National Institute of Food and Agriculture, United States Department of Agriculture; is to advance knowledge for agriculture, the environment, human health and well-being, and communities by creating opportunities for youth. 4-H is the premier youth development program of the United States Department of Agriculture. Originating in the early 1900's as “four-square education,” the 4-H's (head-heart-hands-health) seek to promote positive youth development, facilitate learning and engage youth in the work of their community to enhance the quality of life.

Need and Use of the Information: The annual 4-H Enrollment Report is the principal means by which the 4-H movement can keep track of its progress, as well as emerging needs, potential problems and opportunities. All of the information necessary to run the 4-H program is collected from individuals clubs, and other units. The following information will be collected: (1) Youth enrollment totals by delivery mode; (2) youth enrollment totals by type of 4-H activity; (3) youth enrollment totals by school grade; (4) youth enrollment totals by gender; (5) youth enrollment totals by place of residence; (6) adult volunteer totals; (7) youth volunteer totals; and (8) youth enrollment totals by race and ethnicity. Without the information it would be impossible to justify federal funding for the 4-H program.

Description of Respondents: State, Local or Tribal Government.

Number of Respondents: 56.

Frequency of Responses: Reporting: Annually.

Total Burden Hours: 56.

Ruth Brown,
Departmental Information Collection Clearance Officer.

[FR Doc. 2010-11981 Filed 5-18-10; 8:45 am]

BILLING CODE 3410-09-P